COMMISSION ON CIVIL RIGHTS

Agenda and Notice of Public Meeting of the Maryland Advisory Committee

AGENCY: Commission on Civil Rights.

ACTION: Announcement of meeting.

SUMMARY: Notice is hereby given, pursuant to the provisions of the rules and regulations of the U.S. Commission on Civil Rights (Commission), and the Federal Advisory Committee Act (FACA), that a meeting of the Maryland Advisory Committee to the Commission will convene at 10:00 a.m. (EDT) on April 25, 2017 in the Auditorium, Earl C. Graves School of Business & Management, at Morgan State University located at 1700 E. Cold Spring Lane, Baltimore, MD, 21251. The purpose of the briefing meeting is to hear testimony on the impact of the recent Court of Appeals decision on bail policies. The Committee will also hear testimony on whether jurisdictions in Maryland are raising revenue through the use of fines and fees, including traffic tickets, other minor offenses, reimbursement fees for the costs of defense services, fine surcharges, court administrative fees, user fees to defray the costs of incarceration, and probation, parole or other supervision fees and whether these are disparately impacting people of color.

DATES: Tuesday, April 25, 2017, from 10:00 a.m. to 5:00 p.m. EDT.

ADDRESSES: Auditorium, Earl C. Graves School of Business & Management, at Morgan State University located at 1700 E. Cold Spring Lane, Baltimore, MD, 21251.

FOR FURTHER INFORMATION CONTACT: Evelyn Bohor at ero@usccr.gov, or 202-376-7533

SUPPLEMENTARY INFORMATION: The meeting is free and open to the public. If other persons who plan to attend the meeting require accommodations, please contact Evelyn Bohor at ebohor@usccr.gov at the Eastern Regional Office at least ten (10) working days before the scheduled date of the meeting.

Time will be set aside at the end of the briefing so that members of the public may address the Committee after the formal presentations have been completed. Persons interested in the issue are also invited to submit written comments; the comments must be received in the regional office by Thursday, May 25, 2017. Written comments may be mailed to the Eastern Regional Office, U.S. Commission on Civil Rights, 1331 Pennsylvania Avenue, Suite 1150, Washington, DC 20425, faxed to (202) 376-7548, or emailed to Evelyn Bohor at ero@usccr.gov. Persons who desire additional information may contact the Eastern Regional Office at (202) 376-7533.

Records and documents discussed during the meeting will be available for public viewing as they become available at http://facadatabase.gov/committee/meetings.aspx?cid=253 and clicking on the “Meeting Details” and “Documents” links. Records generated from this meeting may also be inspected and reproduced at the Eastern Regional Office, as they become available, both before and after the meeting. Persons interested in the work of this advisory committee are advised to go to the Commission's Web site, www.usccr.gov, or to contact the Eastern Regional Office at the above phone number, email or street address.

Tentative Agenda

Monday, March 20, 2017

I. Welcome and Introductions

II. Briefing 9:15 a.m. to 6:00 p.m.

Panel One: Bail Reform

Panel Two: Bail Reform

Panel Three: Fines and Fees

Panel Four: Fines and Fees

III. Open Session

IV. Adjournment

Dated: April 4, 2017.
David Mussatt,
Supervisory Chief, Regional Programs Unit.

[FR Doc. 2017-07059 Filed 4-7-17; 8:45 am]

BILLING CODE P